DEPARTMENT OF LABOR

Office of the Secretary

Submission for OMB Review; Comment Request

June 13, 2000.

The Department of Labor (DOL) has submitted the following public information collection requests (ICRs) to the Office of Management and Budget (OMB) for review and approval in accordance with the Paperwork Reduction Act of 1995 (Pub. L.104-13, 44 U.S.C. Chapter 35). A copy of each individual ICR, with applicable supporting documentation, may be obtained by calling the Department of Labor. To obtain documentation for BLS, ETA, PWBA, and OASAM contact Karin Kurz ((202) 219-5096 ext. 159 or by E-mail to Kurz-Karin@dol.gov). To obtain documentation for ESA, MSHA, OSHA, and VETS contact Darrin King ((202) 219-5096 ext. 151 or by E-Mail to King Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), on or before July 19, 2000.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Title: Identification of Independent Contractors.

Type of Review: Extension.

OMB Number: 1219-0043.

Frequency: On occasion.

Affected Public: Business or other for-profit.

Number of Respondents: 1,687.

Number of Annual Responses: 1,687.

Estimated Time Per Response: Varies from 4 minutes as a result of a citation to 8 minutes for a contractor to file a request.

Total Burden Hours: 191 hours.

Total Annualized capital/startup costs: $0.

Total annual costs (operating/maintaining systems or purchasing services): $368.

Description: Provides that independent contractors may voluntarily obtain a permanent MSHA identification number by submitting to MSHA their trade name and business address, a telephone number, an estimate of the annual hours worked by the contractor on mine property for the previous calendar year, and the address of record for the service of documents upon the contractor.

Agency: Employment Standards Administration (ESA).

Title: Employment Under Special Certificates for Apprentices, Messengers, and Learners.

Type of Review: Extension.

OMB Number: 1215-0192.

Frequency: Annually.

Affected Public: Business or other for-profit; individuals or households; not-for-profit institutions; State, Local, or Tribal Government.

Form No. | Number of respondents | Number of annual responses | Estimated time per response
WH-209 | 1 | 0 | 20
WH-205 | 650 | 650 | 30

Total Burden Hours: 325 hours (rounded).

Total Annualized capital/startup costs: $0.

Total annual costs (operating/maintaining systems or purchasing services): $234.

Description: Employers are required by the Department of Labor to submit an application for authorization to employ messengers and learners at subminimum wages under the provisions of section 14(a) of the Fair Labor Standards Act. Applications and records required to be kept are reviewed by the Department of Labor to determine whether statutory and regulatory requirements for the employment of messengers, apprentices and learners have been met.

Ira L. Mills,
Departmental Clearance Officer.

[FR Doc. 00-15374 Filed 6-1-00; 8:45 am]

BILLING CODE 4510-27-M